DEPARTMENT OF TRANSPORTATION
Federal Aviation Administration
14 CFR Part 39
[Docket No. 2003-NM-43-AD; Amendment 39-13441; AD 2004-02-06]
RIN 2120-AA64
Airworthiness Directives; McDonnell Douglas Model DC-10-10, DC-10-10F, DC-10-15, DC-10-30, DC-10-30F, DC-10-30F (KC-10A- and KDC-10), DC-10-40, DC-10-40F, MD-10-10F, and MD-10-30F Airplanes; and Model MD-11 and MD-11F Airplanes

AGENCY:
Federal Aviation Administration, DOT.

ACTION:
Final rule.

SUMMARY:
This amendment adopts a new airworthiness directive (AD), applicable to certain McDonnell Douglas transport category airplanes. For certain airplanes, this amendment requires a general visual inspection to detect cracking in the nuts on the lower attach bolt assemblies of the forward attach bracket of the inboard flap outboard hinge, replacement of both upper and lower attach bolt assemblies with new bolts and nuts made from Inconel material, and replacement of certain preload-indicating (PLI) washers with new washers. For certain other airplanes, this amendment requires replacement of the lower attach bolt assemblies of the inboard forward attach bracket of the inboard flap outboard hinge with new bolts and nuts made from Inconel material, and replacement of PLI washers with new washers. This action is necessary to prevent separation of the inboard flap outboard hinge from the wing structure and consequent reduced controllability of the airplane. This action is intended to address the identified unsafe condition.

DATES:
Effective March 5, 2004.
The incorporation by reference of certain publications listed in the regulations is approved by the Director of the Federal Register as of March 5, 2004.

ADDRESSES:
The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT:
Ronald Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION:

A proposal to amend part 39 of the Federal Aviation Regulations (14 CFR part 39) to include an airworthiness directive (AD) that is applicable to certain McDonnell Douglas transport category airplanes was published in the Federal Register on September 30, 2003 (68 FR 56216). That action proposed to require, for certain airplanes, a general visual inspection to detect cracking in the nuts on the lower attach bolt assemblies of the forward attach bracket of the inboard flap outboard hinge, replacement of both upper and lower attach bolt assemblies with new bolts and nuts made from Inconel material, and replacement of certain preload-indicating (PLI) washers with new washers. For certain other airplanes, that action proposed to require replacement of the lower attach bolt assemblies of the inboard forward attach bracket of the inboard flap outboard hinge with new bolts and nuts made from Inconel material, and replacement of PLI washers with new washers.
Comments

Interested persons have been afforded an opportunity to participate in the making of this amendment. No comments were submitted in response to the proposal or the FAA's determination of the cost to the public.

Conclusion
The FAA has determined that air safety and the public interest require the adoption of the rule as proposed.
Cost Impact
There are approximately 394 Model DC-10 and Model MD-10 airplanes, and approximately 192 Model MD-11 and -11F airplanes of the affected design in the worldwide fleet. The FAA estimates that 252 DC-10 and Model MD-10 airplanes, and 76 Model MD-11 and -11F airplanes of U.S. registry will be affected by this AD, and that the average labor rate is $65 per hour.
The following table shows the estimated cost impact for airplanes affected by this AD:

Table—Cost Impact Estimate

Model
Work hours
Labor cost per airplane
Parts cost per airplane
Fleet cost

DC-10 and MD-10 airplanes
25
$1,625
$4,139
$1,452,528

MD-11 and -11F airplanes
13
845
2,041
219,336

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.
Regulatory Impact
The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39
Air transportation, Aircraft, Aviation safety, Incorporation by reference, Safety.

Adoption of the Amendment
Accordingly, pursuant to the authority delegated to me by the Administrator, the Federal Aviation Administration amends part 39 of the Federal Aviation Regulations (14 CFR part 39) as follows:

PART 39—AIRWORTHINESS DIRECTIVES

1. The authority citation for part 39 continues to read as follows:

Authority:
49 U.S.C. 106(g), 40113, 44701.

§ 39.13
[Amended]

2. Section 39.13 is amended by adding the following new airworthiness directive:

2004-02-06 McDonnell Douglas: Amendment 39-13441. Docket 2003-NM-43-AD.

Applicability: Model DC-10-10, DC-10-10F, DC-10-15, DC-10-30, DC-10-30F, DC-10-30F (KC-10A- and KDC-10), DC-10-40, DC-10-40F, MD-10-10F, and MD-10-30F airplanes, as listed in Boeing Alert Service Bulletin DC10-57A149, dated January 7, 2003; and Model MD-11 and MD-11F airplanes, as listed in Boeing Alert Service Bulletin MD11-57A068, dated January 7, 2003; certificated in any category.

Compliance: Required as indicated, unless accomplished previously.
To prevent separation of the inboard flap outboard hinge from the wing structure and consequent reduced controllability of the airplane, accomplish the following:
Replacements Accomplished per Previous Service Bulletins
(a) Replacements of steel bolts and nuts with Inconel bolts and nuts accomplished before the effective date of this AD per Boeing Service Bulletin DC10-57-116, Revision 01, dated November 25, 1996; Boeing Service Bulletin DC10-57-116, Revision 02, dated December 22, 1998; Boeing Service Bulletin DC10-57-116, Revision 03, dated May 12, 1999; and per Condition 1, Group 1 or 2, Option 1, of Boeing Alert Service Bulletin MD11-57A067, including Appendices A and B, dated July 10, 2002; are considered acceptable for compliance with the corresponding action specified in this AD.
General Visual Inspection, Model DC-10 and MD-10 Airplanes
(b) Within six months after the effective date of this AD, for all affected Model DC-10 and MD-10 airplanes, remove the encapsulating sealant from the nut side only of both assemblies and do a general visual inspection of the inboard flap, outboard hinge, forward attach bracket, lower attach bolt assembly nuts to detect cracking in the nuts, in accordance with the Accomplishment Instructions in Boeing Alert Service Bulletin DC10-57A149, dated January 7, 2003.

Note 1:
For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Replacement, Model DC-10 and MD-10 Airplanes

(c) Following the general visual inspection described in paragraph (b) of this AD, for all affected Model DC-10 and MD-10 airplanes, accomplish the applicable action(s) described in Table 1 of this AD at the specified times, per the Accomplishment Instructions in Boeing Alert Service Bulletin DC10-57A149, dated January 7, 2003. Although the Accomplishment Instructions specify to submit certain information and discrepant parts to the manufacturer, this AD does not include such a requirement.

Table 1.—Inspection and Replacement, Model DC-10 and MD-10 Airplanes

Condition
Actions to accomplish

(1) Cracks in either nut
(i) Option 1 (Preferred): Prior to further flight, replace both upper and lower attach bolt assemblies with new bolts and nuts made from Inconel material.

(ii) Option 2: Prior to further flight, replace both lower attach bolt assemblies with new bolts and nuts made from Inconel material, and replace the preload-indicating (PLI) washers with new washers. Within 24 months after the effective date of this AD, replace both upper attach bolt assemblies with new bolts and nuts made from Inconel material, and replace the preload-indicating (PLI) washers with new washers.

(2) No cracks in nuts
Within 24 months after the effective date of this AD, replace both upper and lower attach bolt assemblies with bolts and nuts made from Inconel material, and replace the PLI washers with new washers, as applicable.

Replacement, Model MD-11 and -11F Airplanes
(d) Replace the inboard flap, outboard hinge, forward attach bracket, lower attach bolt assemblies of the affect Model MD-11 and MD-11F airplanes with new bolts and nuts made from Inconel material and replace the PLI washers with new PLI washers within the compliance time for the applicable condition described in Table 2 of this AD. Accomplish all replacements per the Accomplishment Instructions in Boeing Alert Service Bulletin MD11-57A068, dated January 7, 2003.

Table 2.—Condition and Compliance Time, Model MD-11 and -11F Airplanes

Condition
Compliance time

MD-11 and MD-11F airplanes that have not replaced steel bolts and nuts with new like parts or Inconel bolts per group 1 or 2, option 1 or 2 of Boeing Alert Service Bulletin MD11-57A067, including Appendices A and B, dated July 10, 2002
Within 18 months after the effective date of this AD.

MD-11 and MD-11F airplanes that have replaced steel bolts and nuts with new steel bolts and steel nuts per group 1 or 2, option 2, table 2, note 7 of Boeing Alert Service Bulletin MD11-57A067, including Appendices A and B, dated July 10, 2002
Within 36 months after the effective date of this AD.

MD-11 and MD-11F airplanes that have replaced steel bolts and nuts with new steel bolts and new Inconel nuts per Group 1 or 2, Option 2 of Boeing Alert Service Bulletin MD11-57A067, including Appendices A and B, dated July 10, 2002
Within 60 months after the effective date of this AD.

Alternative Methods of Compliance
(e) In accordance with 14 CFR 39.19, the Manager, Los Angeles Aircraft Certification Office (ACO), FAA, is authorized to approve alternative methods of compliance (AMOCs) for this AD.
Incorporation by Reference
(f) The actions shall be done in accordance with Boeing Alert Service Bulletin DC10-57A149, dated January 7, 2003; or Boeing Alert Service Bulletin MD11-57A068, dated January 7, 2003; as applicable. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date
(g) This amendment becomes effective on March 5, 2004.

Issued in Renton, Washington, on January 20, 2004.
Kalene C. Yanamura,
Acting Manager, Transport Airplane Directorate, Aircraft Certification Service.

[FR Doc. 04-1909 Filed 1-29-04; 8:45 am]
BILLING CODE 4910-13-P